DEPARTMENT OF THE INTERIOR

Office of Natural Resources Revenue

[Docket No. ONRR-2011-0007]

30 CFR Part 1206

Notice of Meeting for the Indian Oil Valuation Negotiated Rulemaking Committee

AGENCY: Office of Natural Resources Revenue, Interior.

ACTION: Notice of meetings.

SUMMARY: The Office of Natural Resources Revenue (ONRR) announces meetings for the Indian Oil Valuation Negotiated Rulemaking Committee (Committee). Agenda items for the first meetings of the Committee will include (1) an overview of Indian oil production, the current Indian oil valuation rule, and the Indian oil royalty administrative process; (2) an identification of issues to be addressed by the Committee; and (3) an opportunity for members to express their issues, concerns and interests. In addition, the Committee's facilitator will review meeting protocols and facilitate a discussion of collaborative problem solving. The Committee membership includes representatives from Indian Tribes, individual Indian mineral owner organizations, the oil and gas industry, and the Department of the Interior. The public will have the opportunity to comment between 3:45 p.m. and 4:45 p.m. mountain standard time on May 1, 2012, and June 18, 2012.

DATES: Tuesday and Wednesday, May 1 and 2, 2012 and Monday and Tuesday, June 18 and 19, 2012. Both meetings will run from 8:30 a.m. to 5 p.m. mountain standard time on both days.

ADDRESSES: ONRR will hold the meetings at the Denver Federal Center, 6th Ave and Kipling, Bldg. 85 Auditorium, Lakewood, Colorado 80225.

FOR FURTHER INFORMATION CONTACT: Mr. Karl Wunderlich, ONRR, at (303) 231-3663; or (303) 231-3194 via fax; or email at karl.wunderlich@onrr.gov.

SUPPLEMENTARY INFORMATION: ONRR formed the Indian Oil Valuation Negotiated Rulemaking Committee on December 8, 2011, to develop specific recommendations regarding proposed revisions to the existing regulations for oil production from Indian leases, especially the major portion requirement. The Committee includes representatives of parties who will be affected by the final rule. It will act solely in an advisory capacity to ONRR and will neither exercise program management responsibility nor make decisions directly affecting the matters on which it provides advice.

Meetings are open to the public without advanced registration on a space-available basis. Transcripts of this meeting will be available for public inspection and copying at our offices in Building 85 on the Denver Federal Center in Lakewood, Colorado. These meetings are conducted under the authority of the Federal Advisory Committee Act (Pub. L. 92-463, 5 U.S.C., Appendix 1).

Dated: March 29, 2012.
Gregory J. Gould,
Director, Office of Natural Resources Revenue.

[FR Doc. 2012-8186 Filed 4-4-12; 8:45 am]

BILLING CODE 4310-T2-P